DEPARTMENT OF JUSTICE

Drug Enforcement Administration

Jovencio L. Raneses, M.D.; Denial of Application

On August 28, 2009, the Deputy Assistant Administrator, Office of Diversion Control, Drug Enforcement Administration, issued an Order to Show Cause to Jovencio L. Raneses, M.D. (Respondent), of San Diego, California. The Show Cause Order proposed the revocation of Respondent's DEA Certificate of Registration, BR5257907, which authorized him to dispense controlled substances in schedules II through V as a practitioner, and the denial of any pending applications to renew or modify his registration, on the ground that Respondent lacks authority to handle controlled substances in California, the State in which he is registered. Show Cause Order at 1 (citing 21 U.S.C. 823(f) & 824(a)(3)). The Order further notified Respondent of his rights to contest the action under 21 CFR 1301.43(a) & (c), and that if he failed to request a hearing, he would be deemed to have waived his right to a hearing. Show Cause Order at 2.

As evidenced by the signed return receipt card, on August 31, 2009, the Government served the Show Cause Order on Respondent by certified mail to his residence in San Marcos, California. GX B. Since that time, neither Respondent, nor anyone purporting to represent him, has either requested a hearing on the allegations or submitted a written statement in lieu of a hearing. Accordingly, I find that Respondent has waived both his right to a hearing and his right to submit a written statement in lieu of a hearing. See 21 CFR 1301.43(d). I therefore enter this Decision and Final Order without a hearing based on evidence contained in the record submitted by the Government. I make the following findings.

Findings

Respondent previously held DEA Certificate Registration, BR5257907, which authorized him to dispense controlled substances in schedules 2N, 3N, 4 and 5, as a practitioner, at the registered location of 1666 Garnet Avenue, # 708, San Diego, California. GX E, at 1. On May 1, 2003, Respondent last renewed this registration; the registration was assigned an expiration date of April 30, 2006. Id. On September 27, 2006, nearly five months after the registration expired, Respondent submitted an application to renew this registration. Id. Based on the above, I find that Respondent has a current application before the Agency. However, I conclude that because Respondent did not file a timely application to renew the registration, the registration has not remained in effect pending the issuance of the Final Order in this matter. See 5 U.S.C. 558(c) (“When the licensee has made timely and sufficient application for a renewal or a new license in accordance with agency rules, a license with reference to an activity of a continuing nature does not expire until the application has been finally determined by the agency.”) (emphasis added).

Respondent also previously held Physician's and Surgeon's Certificate No. C37687, which was issued by the Medical Board of California. See In re Jovencio L. Raneses, M.D., Default Decision and Order, at 1 (Med. Bd. of Cal., Jan. 27, 2009). However, the certificate expired on April 30, 2007, and was not renewed. Id. Moreover, on May 27, 2008, the Executive Director of the Board filed an accusation against Respondent alleging that he failed to comply with the Board's order of February 26, 2008 that he submit to psychiatric and physical examinations no later than 30 days from the date of the order. In re Jovencio L. Raneses, M.D., Accusation at 4-5. Based on Respondent's failure to file a Notice of Defense to the Accusation within fifteen days as required by California law, the Board found that Respondent was in default and that the allegations of the accusation were true. Default Decision and Order, at 3-4. The Board then ordered that Respondent's Physician's and Surgeon's Certificate be revoked effective on February 26, 2009. Id. at 5. Moreover, according to the online records of the Board, Respondent's state license remains revoked.

Discussion

Under the Controlled Substances Act (CSA), a practitioner must be currently authorized to handle controlled substances “under the laws of the State in which he practices” in order to obtain and maintain a DEA registration. See 21 U.S.C. 823(f) (“The Attorney General shall register practitioners * * * if the applicant is authorized to dispense * * * controlled substances under the laws of the State in which he practices.”). See also id. § 802(21) (“[t]he term `practitioner' means a physician * * * licensed, registered, or otherwise permitted, by * * * the jurisdiction in which he practices * * * to distribute, dispense, [or] administer * * * a controlled substance in the course of professional practice”). As these provisions make plain, possessing authority under state law to handle controlled substances is an essential condition for holding a DEA registration.

Because Respondent's California medical license has been revoked, he is without authority under state law to handle controlled substances and thus does not meet a fundamental statutory requirement for obtaining a new registration. See 21 U.S.C. 823(f); see also Richard Carino, M.D., 72 FR 71955, 71956 (2007). Accordingly, his application for a new DEA registration must be denied.

Order

Pursuant to the authority vested in me by 21 U.S.C. 823(f), as well as 28 CFR 0.100(b) & 0.104, I order that the application of Jovencio L. Raneses, M.D., for a DEA Certificate of Registration, be, and it hereby is, denied. This Order is effective April 12, 2010.

Dated: March 3, 2010.
Michele M. Leonhart,
Deputy Administrator.

[FR Doc. 2010-5198 Filed 3-10-10; 8:45 am]

BILLING CODE 4410-09-P